DEPARTMENT OF ENERGY

Federal Energy Regulatory Commission

[Docket No. IS21-747-003; Docket No. IS21-747-002; Docket No. IS21-747-000; Docket No. IS23-92-000]

Phillips 66 Pipeline LLC; Notice of Amendment of Settlement Agreement

Take notice that on September 3, 2025, Phillips 66 Pipeline LLC filed an Amendment of Settlement (Settlement Amendment) pursuant to Rule 602 of the Commission's Rules of Practice and Procedure, 18 CFR 385.602 (2025) and a Motion for Shortened Comment Period. The Settlement Amendment seeks to modify the settlement agreement approved by the Commission on August 28, 2024 in Docket Nos. IS21-747-002, IS21-747-000, and IS23-92-000.

Notice is hereby given that initial comments on the Settlement Amendment are due on September 17, 2025, and reply comments are due on September 22, 2025.

Dated: September 10, 2025.
Debbie-Anne A. Reese,
Secretary.

[FR Doc. 2025-17804 Filed 9-15-25; 8:45 am]

BILLING CODE 6717-01-P